ENVIRONMENTAL PROTECTION AGENCY

[FRL-7120-7]

Agency Information Collection Activities: Submission for OMB Review; Renewal; Federal Plan Recordkeeping and Reporting Requirements for Large Municipal Waste Combustors Constructed on or Before September 20, 1994 (Subpart FFF)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Federal Plan Recordkeeping and Reporting Requirements for Large Municipal Waste Combustors Constructed on or Before September 20, 1994 (subpart FFF), ICR Number, 1847.02, OMB Control Number, 2060-0390, expiration date, December 31, 2001. The ICR describes the nature of the information collection and its expected burden and cost; where appropriate, it includes the actual data collection instrument.

DATES: Comments must be submitted on or before January 22, 2002.

FOR FURTHER INFORMATION CONTACT: For a copy of the ICR contact Susan Auby at EPA by phone at (202) 260-4901, by E-mail at auby.susan@epamail.epa.gov, or download off the Internet at http://www.epa.gov/icr and refer to EPA ICR No. 1847.20.For technical questions about the ICR contact Carolyn Young, 202-564-7062, Office of Compliance, young.carolyn@epa.gov.

SUPPLEMENTARY INFORMATION: Title: Federal Plan Recordkeeping and Reporting Requirements for Large Municipal Waste Combustors Constructed on or before September 20, 1994 (subpart FFF); OMB Control Number 2060-0390, EPA ICR Number 1847.02, expiration date December 31, 2001. This is a renewal notice.

Abstract: This information collection is required as a result of a Federal plan to implement and enforce the Clean Air Act (CAA) emission guidelines (40 CFR part 60, subpart Cb) for large municipal waste combustors (MWC's) that were promulgated under the authority of CAA sections 111 and 129. The emission guidelines are not federally enforceable. Under the CAA section 129(b)(2), States were required to submit State plans to the Environmental Protection Agency (EPA) for approval by December 19, 1996 that implement and enforce the guidelines. Section 129(b)(3) requires EPA to promulgate a Federal plan to implement and enforce the guidelines in those States that have not submitted an approvable plan to EPA by December 19, 1997. Reporting and recordkeeping requirements would apply to MWC units with capacities to combust greater than 250 tons per day (tpd) (large MWC's). The EPA Regional Offices will collect the required information (after promulgation of the MWC Federal plan) to ensure that the subpart FFF Federal plan is being implemented and enforced for affected facilities in States that have not submitted an approvable State plan by December 19, 1997.

An agency may not conduct or sponsor, and a person is not required to respond to, a collection of information unless it displays a currently valid OMB control number. The OMB control numbers for EPA's regulations are listed in 40 CFR part 9 and 48 CFR Chapter 15. Respondents are owners or operators of municipal waste combustors with a capacity to combust greater than 250 tons per day located in States that do not have EPA-approved State plans. All respondents must submit notification of five increments of progress and emission rates. The information will be used to ensure that the MWC Federal plan requirements are being achieved on a continuous basis. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 17, 2001. A comment was received from Mark Strohfus, Great River Energy, 17845 E. Hwy 10, PO Box 800 Elk River, MN 55330-0800.

Burden Statement: The annual public reporting and recordkeeping burden for this collection of information is estimated to average 3,218 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators Municipal Waste Combustors (MWC).

Estimated Number of Respondents: 56.

Frequency of Response: one-time, quarterly, semi-annual and annual.

Estimated Total Annual Hour Burden: 58,915 hours.

Estimated Total Annualized Capital and Operating & Maintenance Cost Burden: $3,218.

Send comments on the Agency's need for this information, the accuracy of the provided burden estimates, and any suggested methods for minimizing respondent burden, including through the use of automated collection techniques to the following addresses. Please refer to EPA ICR No.1847.02 and OMB Control No. 2060-0390 in any correspondence.

Send comments on the Agency's need for this information, the accuracy of the provided burden estimates, and any suggested methods for minimizing respondent burden, including through the use of automated collection techniques to the addresses listed above. Please refer to EPA ICR No. 1847.02 and OMB Control No. 2060-0390 in any correspondence.

Dated: December 12, 2001.
Oscar Morales,
Director, Collection Strategies Division.

[FR Doc. 01-31343 Filed 12-19-01; 8:45 am]

BILLING CODE 6560-50-P